DEPARTMENT OF COMMERCE

National Oceanic and Atmospheric Administration

[I.D. 041703B]

Marine Mammals; File No. 981-1707

AGENCY: National Marine Fisheries Service (NMFS), National Oceanic and Atmospheric Administration (NOAA), Commerce.

ACTION: Receipt of application and notice of availability of draft environmental assessment.

SUMMARY: Notice is hereby given that Dr. Peter L. Tyack, Biology Department, Woods Hole Oceanographic Institution, Woods Hole, Massachusetts, 02543, has applied in due form for a permit to take various cetacean species for purposes of scientific research. A draft environmental assessment has been prepared on the proposed research and is available for comment.

DATES: Written or telefaxed comments must be received on or before May 23, 2003.

ADDRESSES: The application, draft environmental assessment, and related documents are available for review upon written request, by downloading from the internet, or by appointment in the following office(s):

Permits, Conservation and Education Division, Office of Protected Resources, NMFS, 1315 East-West Highway, Room 13705, Silver Spring, MD 20910; phone (301)713-2289; fax (301)713-0376; www.nmfs.noaa.gov/prot_res;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Carrie Hubard, Tammy Adams, or Steve Leathery, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).The applicant requests authorization for a five year permit to take various cetacean species, including endangered whales, in the North Atlantic (including the Gulf of Mexico) and Mediterranean Sea for scientific purposes related to the biology, foraging ecology, communication, and behavior of these animals. The research focuses on cetacean responses to anthropogenic sounds in the marine environment. Takes would include close approach, suction-cup tagging, and playbacks of high frequency whale-finding sonar, airgun sounds, and sperm whale codas. The permit application covers three research projects which use as their primary research method non-intrusive, suction-cup tagging with an advanced digital sound recording tag (DTAG). The DTAG can record what an animal hears and measure vocal, behavioral, and physiological responses to sound. Small fragments of sloughed skin found in the suction-cup of the DTAG after retrieval will be exported from field sites and imported for genetic analyses. The applicant seeks to test a whale-finding sonar developed by a North Atlantic Treaty Organization (NATO) undersea research lab in Italy. The sonar uses a non-directional sound source and a sophisticated directional receiver. This permit application covers research to test how well this whale finder detects whales in the Mediterranean Sea.

Project 1 will involve applying DTAGs to a variety of whale and dolphin species to study the baseline behavior of animals tagged throughout the North Atlantic. The endangered species that the applicant plans to tag are: humpback (Megaptera novaeangliae), sei (Balaenoptera borealis), fin (Balaenoptera physalus), blue (Balaenoptera musculus), and sperm (Physeter macrocephalus) whales. There are three main goals of Project 1: (1) to obtain continuous sampling of marine mammal vocal and motor behavior, (2) to determine correction factors that can be applied to visual sighting data to better estimate population and stock abundance, and (3) to serve as a control group for Projects 2 and 3, described below.

The goals of Project 2 are: (1) To validate the effectiveness of a high-frequency whale-finding sonar developed by a NATO research lab to detect marine mammals based on species, size, and orientation of the animal in the water, and (2) to determine what sound levels heard by an animal may cause a change in its behavior. Project 2 research will be conducted in the Mediterranean Sea and will focus on sperm whales, however, other species of whales such as fin and minke (Balaenoptera acustostrata) and dolphin species will also be tagged. For Project 2, DTAG-tagged animals will be exposed to sounds at received levels of 120-160 dB re 1 μPa rms for testing short sounds of a whale-finding sonar. Pre-recorded sperm whale vocalizations (codas) will also be transmitted to serve as control playbacks. Because monitoring techniques for loud operations such as rig removal and ship shock trials have typically consisted of visual observations and passive acoustic listening, and these methods are not 100 percent effective (e.g., at night, during poor weather, when animals are silent), there is a need for a more effective tool to detect the presence of marine mammals in the vicinity of such loud noises. This need for a detection tool has led to the development of low power, mid or high frequency sonars that can detect marine mammals within a range of 1-2 km. If found to be effective this whale-finding sonar could be used to search an area for marine mammals, similar to the sonar used to locate schools of fish. If animals are detected in the vicinity of a potentially harmful operation, such as an underwater explosion, the event could be halted until the animals are safely out of range.

In Project 3, the applicant will study the responses of tagged sperm whales to short impulses from airgun arrays in the Gulf of Mexico. Technological advances in the oil and gas industry are allowing exploration and drilling in much deeper waters than in the past, which may have an increased impact on deep diving marine mammals such as sperm whales. Most projections predict strong expansion of industry activities into deep waters of the Gulf of Mexico where sperm whales reside. The seismic industry uses arrays of airguns to direct sound energy downwards into geological strata below the seafloor. Because sperm whales spend most of their time below the surface it is not known how they react to the sounds of the seismic surveying. The applicant proposes to use the DTAG to study how likely sperm whales are to silence, move away, or show other disruption of behavior when they are exposed to impulse sounds from an airgun array versus natural control sounds. Animals will be exposed to airgun sounds at received levels no higher than 180 dB re 1 μPa rms. Sperm whale codas will serve as the control playbacks. This project will involve visual observations of surfacing sperm whales, passive acoustic tracking of diving sperm whales, and tagging sperm whales with DTAGs. Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application and the draft environmental assessment to the Marine Mammal Commission and its Committee of Scientific Advisors.

Dated: April 18,2003.
Stephen L. Leathery,
Chief, Permits, Conservation and Education Division, Office of Protected Resources, National Marine Fisheries Service.

[FR Doc. 03-10072 Filed 4-22-03; 8:45 am]

BILLING CODE 3510-22-S